FEDERAL COMMUNICATIONS COMMISSION

Policy Forum on Market Entry Barriers

AGENCY: Federal Communications Commission.

ACTION: Notice of meeting.

SUMMARY: Chairman William E. Kennard and Commissioner Gloria Tristani of the Federal Communications Commission will host a policy forum on market entry barriers faced by small, women- and minority-owned businesses in the communications industry. The purpose of the forum is to present a series of studies that examine market entry barriers, followed by a roundtable designed to further explore and discuss the findings reached in the studies.

DATES: The meeting will be held on Tuesday, December 12, 2000, from 9:30 a.m. to 1 p.m.

ADDRESSES: The meeting will be held in the FCC's Commission Meeting Room, TW-C305, 445 12th Street, SW, Washington, DC.

FOR FURTHER INFORMATION CONTACT: Cornell William Brooks, Sharon Bradford Franklin, or Steven C. Rangel, Office of General Counsel at (202) 418-1700. Anthony Bush, Office of Communications Business Opportunities at (202) 418-0990.

SUPPLEMENTARY INFORMATION: 1. The Federal Communications Commission (“FCC”) Chairman William Kennard and Commissioner Gloria Tristani will host a policy forum on market entry barriers faced by small, women- and minority-owned businesses in the communications industry on Tuesday, December 12, 2000, from 9:30 a.m. to 1 p.m. The Policy Forum will be held in the FCC's Commission Meeting Room, TW-C305, 445 12th Street, SW, Washington, DC.

2. The purpose of the forum is to present the findings of a series of studies which examine the extent, if any, to which small, women- and minority-owned firms in the communications industry experience market entry barriers. The studies were commenced pursuant to Section 257 of the Telecommunications Act of 1996, 47 U.S.C. 257, which requires that the FCC identify and eliminate market entry barriers for entrepreneurs and other small telecommunications businesses, and Section 309(j) of the Act, which requires the FCC to further opportunities in the allocation of spectrum-based services for small businesses and businesses owned by women and minorities.

3. The forum will begin with presentations by the experts who conducted studies, and will be followed by a roundtable discussion with industry practitioners, civil rights experts, and the authors to further explore and discuss the findings reached in the reports.

4. The forum is open to the public, and seating will be available on a first come, first served basis. At the end of the roundtable, we will provide the audience with an opportunity for a short question-and-answer period. All interested persons are invited to attend. Individuals with disabilities may arrange for accommodations by contacting Brian Millin at (202) 418-7426 (Voice), (202) 418-7365 (TTY), or by sending an email to access@fcc.gov.

Federal Communications Commission.
Shirley Suggs,
Chief, Publications Branch.

[FR Doc. 00-31366 Filed 12-8-00; 8:45 am]

BILLING CODE 6712-01-P